DEPARTMENT OF ENERGY

Federal Energy Regulatory Commission

[Docket No. ER00-2396-003, et al.]

Energetix, Inc., et al., Electric Rate and Corporate Regulation Filings

October 17, 2000.

Take notice that the following filings have been made with the Commission:

1. Energetix, Inc.

[Docket No. ER00-2396-003]

Take notice that on October 12, 2000, in compliance with the Commission's letter order issued September 12, 2000 in the above-referenced proceeding, Energetix, Inc. tendered for filing with the Commission revisions to the tariff designations of its market-based rate tariff, FERC Electric Tariff, Original Volume No. 1, and its Code of Conduct.

Comment date: November 2, 2000, in accordance with Standard Paragraph E at the end of this notice.

2. Dominion Nuclear Marketing II, Inc.

[Docket No. ER00-3619-001]

Take notice that on October 12, 2000, Dominion Nuclear Marketing II, Inc., tendered for filing its proposed FERC Market-Based Sales Tariff and requested certain waivers of the Commission's regulations. On October 12, 2000, at the request of the Commission's Staff, DNM II resubmitted its FERC Market-Based Sales Tariff to assure compliance with the Commission's policy regarding the provision of ancillary services at market-based rates and also resubmitted its Code of Conduct for Officers and Employees of Dominion Nuclear Marketing II, Inc., to assure compliance with the Commission's pagination guidelines. Also as part of DNM II's filing, the issue date of its tariff sheets was changed to October 12, 2000.

Comment date: November 2, 2000, in accordance with Standard Paragraph E at the end of this notice.

3. Dominion Nuclear Marketing I, Inc.

[Docket No. ER00-3620-001]

Take notice that on October 12, 2000, Dominion Nuclear Marketing I, Inc., tendered for filing its proposed FERC Market-Based Sales Tariff and requested certain waivers of the Commission's regulations. On October 12, 2000, at the request of the Commission's Staff, DNM I resubmitted its FERC Market-Based Sales Tariff to assure compliance with the Commission's policy regarding the provision of ancillary services at market-based rates and also resubmitted its Code of Conduct for Officers and Employees of Dominion Nuclear Marketing I, Inc., to assure compliance with the Commission's pagination guidelines. Also as part of DNM I's filing, the issue date of its tariff sheets was changed to October 12, 2000.

Comment date: November 2, 2000, in accordance with Standard Paragraph E at the end of this notice.

4. Dominion Nuclear Connecticut, Inc.

[Docket No. ER00-3621-001]

Take notice that on October 12, 2000, Dominion Nuclear Connecticut, Inc., tendered for filing its proposed FERC Market-Based Sales Tariff and requested certain waivers of the Commission's regulations. On October 12, 2000, at the request of the Commission's Staff, DNC resubmitted its FERC Market-Based Sales Tariff to assure compliance with the Commission's policy regarding the provision of ancillary services at market-based rates and also resubmitted its Code of Conduct for Officers and Employees of Dominion Nuclear Connecticut, Inc., to assure compliance with the Commission's pagination guidelines. Also as part of DNC's filing, the issue date of its tariff sheets was changed to October 12, 2000.

Comment date: November 2, 2000, in accordance with Standard Paragraph E at the end of this notice.

5. Quixx Linden, L.P.

[Docket No. QF98-3-001]

Take notice that on October 10, 2000, Quixx Linden, L.P. (Applicant) filed a petition with the Federal Energy Regulatory Commission (Commission) for a temporary waiver of the efficiency standard for cogeneration facilities for calendar years 1999 and 2000 (and the first 12 months of operation) for its facility in Linden, New Jersey, pursuant to Section 292.205(c) of the Commission's regulations.

The waiver being requested is for the start-up and testing period for Applicant's facility. The facility supplies steam, compressed air, demineralized water, and electric power to the General Motors Linden Assembly Plant. Applicant also sells a small amount of electric power on the Pennsylvania-New Jersey-Maryland Power Exchange.

Comment date: November 9, 2000, in accordance with Standard Paragraph E at the end of this notice.

6. UtiliCorp United Inc.

[Docket No. ES01-4-000]

Take notice that on October 10, 2000, UtiliCorp United Inc. submitted an application pursuant to section 204 of the Federal Power Act seeking authorization to issue long-term debt securities, from time to time, in an amount not to exceed $500 million.

Comment date: November 7, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27497 Filed 10-25-00; 8:45 am]

BILLING CODE 6717-01-P